DEPARTMENT OF ENERGY

Federal Energy Regulatory Commission

[Project No. 13289-000]

Delaware River Basin Commission; Notice of Preliminary Permit Application Accepted for Filing and Soliciting Comments, Motions To Intervene, and Competing Applications

November 25, 2008.

On September 22, 2008 and supplemented on October 22, 2008, the Delaware River Basin Commission filed an application, pursuant to section 4(f) of the Federal Power Act, proposing to study the feasibility of the Blue Marsh Dam Hydroelectric Project. The Blue Marsh Dam Hydroelectric Project would be located on Tulpehocken Creek (a tributary of the Schuylkill River) in Berks County, Pennsylvania.

The proposed Blue Marsh Dam Hydroelectric project would consist of: (1) An existing 98-foot-high, 1,775-foot-long rolled earth rock Blue Marsh Dam; (2) an existing reservoir having a surface area of 1,147 acres, with a storage capacity of 22,897 acre-feet and a normal water surface elevation of 290-feet National Geodetic Vertical Datum (NGVD); (3) a proposed 496-foot-long, varying in diameter from 4-inches to 10-foot horseshoe shape concrete penstock; (4) a proposed powerhouse containing two 4.16-kilowatt generators; (5) a proposed 0.9-mile-long, 12.47-kilovolt transmission line; and appurtenant facilities. The Blue Marsh Dam Hydroelectric Project is estimated to have an annual generation of 5.3-gigawatt-hours, which would be sold to a local utility.

Applicant Contact: Ms. Carol R. Collier, Executive Director, Delaware River Basin Commission, 25 State Police Drive, P.O. Box 7360-0360, West Trenton, NJ 08628-0360, phone (609) 883-9500, ext. 200.

FERC Contact: Patricia W. Gillis, 202-502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13289) in the docket number field to access the document. For assistance, call toll-free 1-866-208-3372.

Kimberly D. Bose,
Secretary.

[FR Doc. E8-28576 Filed 12-1-08; 8:45 am]

BILLING CODE 6717-01-P